DEPARTMENT OF ENERGY

Federal Energy Regulatory Commission

[Project No. 2713-082]

Erie Boulevard Hydropower, L.P.; Notice of Application Tendered for Filing With the Commission and Establishing Procedural Schedule for Licensing and Deadline for Submission of Final Amendments

January 13, 2011.

Take notice that the following hydroelectric application has been filed with the Commission and is available for public inspection.

a. Type of Application: New Major License.

b. Project No.: 2713-082.

c. Date Filed: December 30, 2010.

d. Applicant: Erie Boulevard Hydropower, L.P.

e. Name of Project: Oswegatchie River Hydroelectric Project.

f. Location: The existing multi-development project is located on the Oswegatchie River in St. Lawrence County, New York. The project does not affect Federal lands.

g. Filed Pursuant to: Federal Power Act, 16 U.S.C. 791(a)-825(r).

h. Applicant Contact: Jon Elmer, Erie Boulevard Hydropower, L.P, 800 Starbuck Ave., Suite 802, Watertown, New York 13601, (315) 779-2401.

i. FERC Contact: John Baummer, (202) 502-6837 or john.baummer@ferc.gov.

j. This application is not ready for environmental analysis at this time.

k. The Project Description: The existing Oswegatchie River Hydroelectric Project consists of six developments with an installed capacity of 30.32 megawatts (MW) and an average annual generation of 123,769 megawatt-hours. The six developments, listed from upstream to downstream, include:

Browns Falls

The existing Browns Falls Development is located at river mile 96.9 of the Oswegatchie River and consists of: (1) A 941-foot-long dam with a 192-foot-long, 69-foot-high concrete gravity spillway with a crest elevation of 1,347.0 feet above mean sea level (msl) and equipped with 2-foot-high seasonal flash boards; (2) a 168-acre reservoir with a gross storage capacity of 3,234 acre-feet and a normal maximum pool elevation of 1349.0 feet msl; (3) a 62-foot-long gated intake structure equipped with a trashrack with 2.5-inch clear bar spacing; (4) a 12-foot-diameter, 6,000-foot-long steel pipeline; (5) a 70-foot-high surge tank; (6) two 8-foot-diameter, 142-foot-long steel penstocks; (7) a powerhouse containing two turbines directly connected to two generating units for a total installed capacity of 16 MW; (8) a 123-foot-long, 6.6-kilovolt (kV) transmission line; and (9) appurtenant facilities.

The steel pipeline, penstocks, and powerhouse bypass about 7,500 feet of the Oswegatchie River.

Flat Rock

The existing Flat Rock Development is located at river mile 95.5 of the Oswegatchie River and consists of: (1) A 568-foot-long dam and a 120-foot-long earthen embankment with a concrete core wall, and a 229-foot-long, 70-foot-high concrete gravity spillway with a crest elevation of 1,080.0 feet msl; (2) a 159-acre reservoir with a gross storage capacity of 2,646 acre-feet and a normal maximum pool elevation of 1,080.0 feet msl; (3) a 66-foot-long gated intake structure equipped with a trashrack with 2.5-inch clear bar spacing; (4) a powerhouse containing two turbines directly connected to two generating units for a total installed capacity of 5 MW; (5) a 30-foot-long, 2.4-kV transmission line; and (6) appurtenant facilities.

South Edwards

The existing South Edwards Development is located at river mile 87.1 of the Oswegatchie River and consists of: (1) A 200-foot-long dam with a 88-foot-long, 48-foot-high concrete gravity spillway with a crest elevation of 843.2 feet msl and mounted with 2-foot-high seasonal flash boards; (2) 510-foot-long and 240-foot-long earthen dikes located along the south bank of the reservoir, with a concrete core walls and partially equipped with 10-inch-high flashboards; (3) a 79.2-acre reservoir with a gross storage capacity of 1,003 acre-feet and a normal maximum pool elevation of 845.2 feet msl; (4) a 46-foot-long gated intake structure equipped with a trashrack with 2.5-inch clear bar spacing; (5) a 10-foot-diameter, 1,106-foot-long fiberglass pipeline; (6) a 51-foot-high surge tank; (7) a submersible minimum-flow turbine-generator unit connected to the fiberglass pipeline, and a powerhouse containing three turbines directly connected to three generating units for a total installed capacity of 3.46 MW; (8) 75-foot-long, 480-volt and 3,917-foot-long, 2.4-kV transmission lines; and (9) appurtenant facilities.

The pipeline and powerhouse bypass about 1,500 feet of the Oswegatchie River.

Oswegatchie

The Oswegatchie Development is located at river mile 86.6 of the Oswegatchie River and consists of: (1) A 160-foot-long dam with an 80-foot-long, 12-foot-high concrete gravity spillway with a crest elevation of 758.6 feet msl and equipped with a 10-foot-wide notch; (2) a 6-acre reservoir with a gross storage capacity of 23 acre-feet and a normal maximum pool elevation of 758.6 feet msl; (3) a 50-foot-long gated intake structure equipped with a trashrack with 1-inch clear bar spacing; (4) two 6.5-foot-diameter, 90-foot-long steel penstocks; (5) a powerhouse containing two turbines directly connected to two generating units for a total installed capacity of 2 MW; (6) a 2,227-foot-long, 2.4-kV transmission line; and (7) appurtenant facilities.

The penstocks and powerhouse bypass about 350 feet of the Oswegatchie River.

Heuvelton

The Heuvelton Development is located at river mile 12 of the Oswegatchie River and consists of: (1) A 285-foot-long, 19-foot-high concrete gravity dam with a crest elevation of 276.5 feet msl and equipped with two 10.9-foot-high inflatable rubber bladder gates and four 10.5-foot-high tainter gates; (2) a 239-acre reservoir with a gross storage capacity of 405 acre-feet and a normal maximum pool elevation of 286.2 feet msl; (3) a 70-foot-long gated intake structure equipped with a trashracks with 3.5-inch clear bar spacing; (4) a powerhouse containing two turbines directly connected to two generating units for a total installed capacity of 0.96 MW; (5) a 62-foot-long, 2.4-kV transmission line; and (6) appurtenant facilities.

Eel Weir

The Eel Weir Development is located at river mile 5.1 of the Oswegatchie River and consists of: (1) A 1,012-foot-long dam with a short earthen embankment and a 744-foot-long, 26-foot-high Ambursen spillway with a crest elevation of 272.0 feet msl; (2) a 96-acre reservoir with a gross storage capacity of 136.0 acre-feet and a normal maximum pool elevation of 272.0 feet msl; (3) a 117-foot-long gated intake structure equipped with a trashrack with 3.5-inch clear bar spacing; (4) a powerhouse containing three turbines directly connected to three generating units for a total installed capacity of 2.9 MW; (5) a 127-foot-long, 2.4-kV transmission line; and (6) appurtenant facilities.

The Browns Falls, Flat Rock, South Edwards, and Oswegatchie developments operate to meet peak demands for hydroelectric generation, while the Heuvelton and Eel Weir developments typically operate in a run-of-river mode. With the exception of the Oswegatchie Development, the current license does not restrict impoundment fluctuations. The Oswegatchie Development operates with a maximum drawdown of 0.4 feet on the impoundment.

The existing minimum flow requirements for the project include: 30 cubic feet per second (cfs) between April 1 and September 30, and 15 cfs between October 1 and May 31 in the Browns Falls bypassed reach; 60 and 40 cfs year-round in the South Edwards and Oswegatchie bypassed reaches, respectively; 160 cfs (or inflow, whichever is less) year-round in the Flat Rock, South Edwards, and Oswegatchie tailraces, respectively; and 275 and 325 cfs (or inflow, whichever is less) year-round in the Heuvelton and Eel Weir tailraces, respectively.

The applicant, concerned agencies, and non-governmental organizations are currently discussing a settlement agreement that would require Erie Boulevard Hydropower to implement various environmental enhancement measures at the project developments.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | February 28, 2011.
Filing of recommendations, preliminary terms and conditions, and fishway prescriptions | April 28, 2011
Commission issues EA | August 2011.
Comments on EA | September 2011.
Modified terms and conditions | November 2011.

o. Final amendments to the application must be filed with the Commission no later than 30 days from the issuance date of the notice of ready for environmental analysis.

Kimberly D. Bose,
Secretary.

[FR Doc. 2011-1285 Filed 1-21-11; 8:45 am]

BILLING CODE 6717-01-P